NATIONAL FOUNDATION ON THE ARTS AND THE HUMANITIES

Meetings of Humanities Panel

AGENCY: National Endowment for the Humanities.

ACTION: Notice of meetings.

SUMMARY: The National Endowment for the Humanities will hold twenty-six meetings of the Humanities Panel, a federal advisory committee, during April, 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: April 3, 2018

This meeting will discuss applications on the subject of Cultural History for the Media Projects: Production Grants, submitted to the Division of Public Programs.

2. Date: April 4, 2018

This meeting will discuss applications on the subjects of U.S. History and Culture for the Public Humanities Projects—Exhibitions grant program (implementation), submitted to the Division of Public Programs.

3. Date: April 5, 2018

This meeting will discuss applications for the Public Humanities Projects—Community Conversations grant program, submitted to the Division of Public Programs.

4. Date: April 9, 2018

This meeting will discuss applications on the subjects of Social and Political History for the Media Projects: Production Grants, submitted to the Division of Public Programs.

5. Date: April 9, 2018

This meeting will discuss applications for the Landmarks of American History: Workshops for School Teachers grant program, submitted to the Division of Education Programs.

6. Date: April 10, 2018

This meeting will discuss applications for the Landmarks of American History: Workshops for School Teachers grant program, submitted to the Division of Education Programs.

7. Date: April 10, 2018

This meeting will discuss applications for the Public Humanities Projects—Community Conversations grant program, submitted to the Division of Public Programs.

8. Date: April 11, 2018

This meeting will discuss applications for the Landmarks of American History: Workshops for School Teachers grant program, submitted to the Division of Education Programs.

9. Date: April 11, 2018

This meeting will discuss applications on the subject of Scholarly Communications for the Digital Humanities Advancement Grants, submitted to the Office of Digital Humanities.

10. Date: April 12, 2018

This meeting will discuss applications for the National Digital Newspaper Program (new partners), submitted to the Division of Preservation and Access.

11. Date: April 12, 2018

This meeting will discuss applications for the National Digital Newspaper Program (continuing states), submitted to the Division of Preservation and Access.

12. Date: April 12, 2018

This meeting will discuss applications on the subject of Cultural History for the Media Projects: Production Grants, submitted to the Division of Public Programs.

13. Date: April 13, 2018

This meeting will discuss applications for the Institutes for School Teachers grant program, submitted to the Division of Education Programs.

14. Date: April 16, 2018

This meeting will discuss applications for the Institutes for School Teachers grant program, submitted to the Division of Education Programs.

15. Date: April 16, 2018

This meeting will discuss applications on the subjects of Languages, Linguistics, and Text Analysis for the Digital Humanities Advancement Grants, submitted to the Office of Digital Humanities.

16. Date: April 17, 2018

This meeting will discuss applications on the subjects of Global History and Culture for the Public Humanities Projects—Exhibitions grant program (implementation), submitted to the Division of Public Programs.

17. Date: April 17, 2018

This meeting will discuss applications for the Seminars for School Teachers grant program, submitted to the Division of Education Programs.

18. Date: April 17, 2018

This meeting will discuss applications for the Seminars for School Teachers grant program, submitted to the Division of Education Programs.

19. Date: April 18, 2018

This meeting will discuss applications for the Institutes for College and University Teachers grant program, submitted to the Division of Education Programs.

20. Date: April 18, 2018

This meeting will discuss applications on the subjects of Digital Collections and Archives for the Digital Humanities Advancement Grants, submitted to the Office of Digital Humanities.

21. Date: April 19, 2018

This meeting will discuss applications on the subject of Cultural History for the Media Projects: Production Grants, submitted to the Division of Public Programs.

22. Date: April 19, 2018

This meeting will discuss applications for the Institutes for College and University Teachers grant program, submitted to the Division of Education Programs.

23. Date: April 20, 2018

This meeting will discuss applications for the Seminars for College Teachers grant program, submitted to the Division of Education Programs.

24. Date: April 20, 2018

This meeting will discuss applications on the subjects of Arts and Media Studies for the Digital Humanities Advancement Grants, submitted to the Office of Digital Humanities.

25. Date: April 23, 2018

This meeting will discuss applications on the subjects of Archaeology, Geospatial, and Visualization for the Digital Humanities Advancement Grants, submitted to the Office of Digital Humanities.

26. Date: April 25, 2018

This meeting will discuss applications on the subjects of Public Programs and Education for the Digital Humanities Advancement Grants, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 7, 2018.
Elizabeth Voyatzis,
Committee Management Officer.

[FR Doc. 2018-04960 Filed 3-12-18; 8:45 am]

BILLING CODE 7536-01-P